FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011829.

Title: The Ro Ro Ancillary Agreement.

Parties: RoRo Korea Inc., Wallenius Wilhelmsen Lines AS, Walleniusrederierna AB, Wilh. Wilhelmsen ASA, Hyundai Merchant Marine Co., Ltd.

Synopsis: Under the proposed agreement, Hyundai Merchant Marine agrees not to compete in the roll-on roll-off or lift-on lift-off trade on a worldwide basis for three years. Hyundai also agrees not to reveal trade secrets to third parties for five years, use trade secrets to cause harm to the ro-ro industry for three years, or offer employment to employees in the ro-ro industry for one year. This agreement is an ancillary agreement to RoRo Korea's purchase of Hyundai Merchant Marine's ro-ro assets.

Agreement No.: 011830.

Title: Indamex/APL Agreement.

Parties: The Shipping Corporation of India Ltd., Contship Containerlines, a division of CP Ships (UK) Limited, CMA CGM S.A., APL Co. Pte. Ltd./American President Lines, Ltd.

Synopsis: The proposed agreement would authorize the parties to share vessel space between the U.S. East Coast and ports in India, Pakistan, Sri Lanka, Portugal, the United Arab Emirates, ports in the Bangladesh to Philippines range, ports bordering the Mediterranean Sea, and ports bordering the Red Sea. The parties request expedited review.

By Order of the Federal Maritime Commission.
Dated: October 18, 2002.
Bryant L. VanBrakle,
Secretary.

[FR Doc. 02-26980 Filed 10-22-02; 8:45 am]

BILLING CODE 6730-01-P